OFFICE OF THE UNITED STATES TRADE REPRESENTATIVE

Request for Comments on Israel's and Turkey's Participation in the Environmental Goods Agreement Negotiations

AGENCY: Office of the United States Trade Representative.

ACTION: Request for comments.

SUMMARY: On March 21, 2014, the United States Trade Representative notified Congress of the Administration's intention to enter into negotiations for a World Trade Organization (WTO) Environmental Goods Agreement (EGA) with an initial group of 13 trading partners. The United States Trade Representative has since notified Congress of the Administration's intent to join a consensus among EGA participants to invite the Governments of Israel and Turkey to join the EGA negotiations. The Office of the U.S. Trade Representative, on behalf of the Trade Policy Staff Committee (TPSC), is seeking public comment regarding U.S. interests and priorities with respect to this initiative to invite Israel and Turkey to join the EGA negotiations.

DATES: Written comments are due by midnight, January 12, 2015.

ADDRESSES: Comments from the public should be submitted electronically at www.regulations.gov. If you are unable to provide submissions at www.regulations.gov, please contact Yvonne Jamison, Trade Policy Coordination Assistant, at (202) 395-3475, to arrange for an alternative method of transmission.

FOR FURTHER INFORMATION CONTACT: For procedural questions concerning written comments, please contact Yvonne Jamison, Trade Policy Coordination Assistant, at the above number. All other questions regarding this notice should be directed to Bill McElnea, Director for Environment and Natural Resources, at (202) 395-7320.

SUPPLEMENTARY INFORMATION:

Background

On March 21, 2014, the United States Trade Representative notified Congress of the Administration's intention to enter into the EGA negotiations. This notification states that the EGA negotiations “are open to all WTO Members that are prepared to eliminate tariffs on a set of environmental goods, building on the list of 54 goods endorsed by APEC Leaders as the starting point.” A copy of the notification is available at www.ustr.gov/sites/default/files/03212014-Letter-to-Congress.pdf. USTR solicited public comments on this initiative through a notification published in the Federal Register on March 28, 2014 (Document number: 2014-06831). Comments received through that process may be reviewed at http://www.regulations.gov under docket number USTR-2014-0004.

On July 8, 2014, the United States and 13 other WTO members, accounting for 86 percent of global trade in environmental goods, launched the EGA negotiations in Geneva, Switzerland. In addition to the United States, Australia, Canada, China, Costa Rica, the European Union, Hong Kong, Japan, Korea, New Zealand, Norway, Singapore, Switzerland and Chinese Taipei are participating in the negotiations. The EGA aims to eliminate tariffs on a set of environmental technologies such as wind turbines, water treatment filters, and solar water heaters. WTO members apply tariffs as high as 35 percent on environmental goods.

The Governments of Israel and Turkey notified EGA participants of their interests in joining these negotiations earlier this year. Following these notifications of interest, EGA participants agreed to begin any relevant domestic procedures so as to allow Israel and Turkey to join the EGA negotiations. On October 20, 2014, the United States Trade Representative notified Congress of the Administration's intent to join a consensus among EGA participants to invite the Government of Israel to join the EGA negotiations. With respect to the Government of Turkey, the United States Trade Representative sent a similar notification to Congress on November 20, 2014.

The Chair of the TPSC invites interested persons to provide written comments that will assist USTR in assessing Israel's and Turkey's potential participation in the EGA negotiations. The TPSC Chair invites comments on all relevant matters, and, in particular, with regard to those environmental goods of which Israel and Turkey are significant producers and consumers, as well as current market conditions for environmental technologies in Israel and Turkey.

USTR is observing the relevant procedures of the Bipartisan Trade Promotion Authority Act of 2002 (19 U.S.C. 3804) with respect to notifying and consulting with Congress on the invitation of new members to these negotiations.

Requirements for Submissions

Persons submitting comments must do so in English and must identify (on the first page of the submission) “Environmental Goods Agreement—New Participants: Israel and Turkey”. In order to be assured of consideration, comments should be submitted by 11:59 p.m., January 12, 2015. In order to ensure the timely receipt and consideration of comments, USTR strongly encourages commenters to make on-line submissions using the www.regulations.gov Web site. To submit comments via www.regulations.gov, enter docket number USTR-2014-0024 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field. For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the name of the person or entity submitting the comments. Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Ms. Jamison in advance of transmitting a comment. Ms. Jamison should be contacted at (202) 395-3475. General information concerning USTR is available at www.ustr.gov. Comments will be placed in the docket and open to public inspection, except business confidential information. Comments may be viewed on the www.regulations.gov Web site by entering the relevant docket number in the search field on the home page.

Douglas Bell,
Chair, Trade Policy Staff Committee.

[FR Doc. 2014-29388 Filed 12-15-14; 8:45 am]

BILLING CODE 3290-F5-P